DEPARTMENT OF COMMERCE

National Oceanic and Atmospheric Administration

[RTID 0648-XF085]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's Ecosystem and Ocean Planning Committee and Advisory Panel will hold a public meeting.

DATES: The meeting will be held on Friday, September 12, 2025, from 8:30 a.m.-12 p.m.. For agenda details, see SUPPLEMENTARY INFORMATION.

ADDRESSES: The meeting will be held via webinar. Connection information will be posted to the Council's calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Ecosystem and Ocean Planning Committee and Advisory Panel will meet via webinar on Friday, September 12, 2025, from 8:30 a.m.-12 p.m. The purpose of this meeting is for the Committee and Advisors to provide input on the draft Public Hearing Document for the Council's Omnibus Essential Fish Habitat Amendment. Based on this input, the Fishery Management Action Team will complete the draft for the Council to consider at its October 2025 Meeting.

The meeting is physically accessible to people with disabilities. Requests for sign language interpretation or other auxiliary aids should be directed to Shelley Spedden, (302) 526-5251 at least 5 days prior to the meeting date.

Authority: 16 U.S.C. 1801 et seq.

Dated: August 22, 2025.
Rey Israel Marquez,
Acting Deputy Director, Office of Sustainable Fisheries, National Marine Fisheries Service.

[FR Doc. 2025-16365 Filed 8-26-25; 8:45 am]

BILLING CODE 3510-22-P